DEPARTMENT OF COMMERCE

International Trade Administration

A-583-008

Circular Welded Carbon Steel Pipe and Tubes from Taiwan: Rescission of Antidumping Duty Administrative Review

AGENCY: Import Administration, International Trade Administration, Department of Commerce.

EFFECTIVE DATE: August 17, 2004.

FOR FURTHER INFORMATION CONTACT: Robert James or Angela Strom, Office of AD/CVD Enforcement Office 7, Import Administration, International Trade Administration, U.S. Department of Commerce, 14th Street and Constitution Avenue, NW, Washington, DC 20230, telephone: (202) 482-0649 or (202) 482-2704, respectively.

SUPPLEMENTARY INFORMATION:

Background

On May 3, 2004, the Department of Commerce (the Department) published in the Federal Register a notice of opportunity to request an administrative review of the antidumping duty order on certain circular welded carbon steel pipe & tubes from Taiwan for the period May 1, 2003, through April 30, 2004 (69 FR 24117). In accordance with 19 CFR 351.213(b)(1), on May 28, 2004, the respondent, Yieh Phui Enterprise Co., Ltd. (Yieh Phui), requested a review of this order. In response to this request, the Department initiated an administrative review for Yieh Phui on June 30, 2004 (see Initiation of Antidumping and Countervailing Duty Administrative Reviews and Request for Revocation in Part (69 FR 39409)) and issued questionnaires to Yieh Phui on July 8, 2004. Yieh Phui withdrew its request for an administrative review in a letter submitted to the Department on July 29, 2004.

Rescission of Review

The Department's regulations at 19 CFR 351.213(d)(1) provide that the Department will rescind an administrative review, in whole or in part, if a party that requested a review withdraws the request within 90 days of the date of publication of the notice of initiation of the requested review. Yieh Phui withdrew its request for an administrative review on July 29, 2004, which is within the 90-day deadline. No other party requested a review of Yieh Phui's sales. Therefore, because this withdrawal request was timely filed, we are rescinding this review with respect to Yieh Phui in accordance with 19 CFR 351.213(d)(1). We will instruct U.S. Customs and Border Protection to liquidate any entries from Yieh Phui during the POR and to assess antidumping duties at the rate that was applied at the time of entry.

Dated: August 11, 2004.
Jeffrey A. May,
Deputy Assistant Secretary for Import Administration.

[FR Doc. 04-18810 Filed 8-16-04; 8:45 am]

BILLING CODE 3510-DS-S